ENVIRONMENTAL PROTECTION AGENCY

40 CFR Parts 239 and 258

[EPA-RO7-RCRA-2006-0878; FRL-8269-1]

Adequacy of Nebraska Municipal Solid Waste Landfill Program; Withdrawal of Direct Final Rule

AGENCY: Environmental Protection Agency (EPA).

ACTION: Withdrawal of direct final rule.

SUMMARY: Because EPA received adverse comment, we are withdrawing the direct final rule for Adequacy of Nebraska Municipal Solid Waste Landfill Program, published on November 16, 2006.

DATES: Effective January 16, 2007, EPA withdraws the direct final rule published at 71 FR 66686 on November 16, 2006.

FOR FURTHER INFORMATION CONTACT: Chilton McLaughlin, Solid Waste/Pollution Prevention Branch, EPA Region 7, 901 North 5th Street, Kansas City, Kansas 66101, telephone (913) 551-7666, Mclaughlin.chilton@epa.gov.

SUPPLEMENTARY INFORMATION: Because EPA received adverse comment, we are withdrawing the direct final rule for Adequacy of Nebraska Municipal Solid Waste Landfill Program published on November 16, 2006 (71 FR 66686). We stated in that direct final rule that if we received adverse comment by January 16, 2007, the direct final rule would not take effect and we would publish a timely withdrawal in the Federal Register. On December 8, 2006, the Federal Register published a correction notice (71 FR 71241) establishing December 18, 2006, as the date by which EPA would receive comment. We subsequently received an adverse comment on that direct final rule. We will address that comment in a subsequent final action. As stated in the direct final rule and the parallel proposed rule, we will not institute a second comment period in this action.

List of Subjects

40 CFR Part 239

Environmental protection, Administrative practice and procedure, Intergovernmental relations, Waste treatment and disposal.

40 CFR Part 258

Reporting and recordkeeping requirements, Waste treatment disposal, Water pollution control.

Authority: This action is issued under the authority of section 2002, 4005 and 4010(c) of the Solid Waste Disposal Act, as amended, 42 U.S.C. 6912, 6945 and 6949(a).

Dated: January 9, 2007.
William Rice,
Acting Regional Administrator, Region 7.

[FR Doc. E7-414 Filed 1-12-07; 8:45 am]

BILLING CODE 6560-50-P